DEPARTMENT OF DEFENSE

Office of the Secretary

Charter Renewal of Department of Defense Federal Advisory Committees

AGENCY: Department of Defense.

ACTION: Renewal of federal advisory committee.

SUMMARY: The Department of Defense is publishing this notice to announce that it is renewing the charter for the National Security Education Board (“the Board”).

FOR FURTHER INFORMATION CONTACT: Jim Freeman, Advisory Committee Management Officer for the Department of Defense, 703-692-5952.

SUPPLEMENTARY INFORMATION: The Board's charter is being renewed pursuant to 50 U.S.C. 1903(a) and in accordance with the Federal Advisory Committee Act (FACA) of 1972 (5 U.S.C., App) and 41 CFR 102-3.50(a). The Board's charter and contact information for the Board's Designated Federal Officer (DFO) can be found at https://www.facadatabase.gov/FACA/apex/FACAPublicAgencyNavigation.

The Board, pursuant to 50 U.S.C. 1903(d) and, shall perform the following functions: a. Develop criteria for awarding scholarships, fellowships, and grants under 50 U.S.C. Ch. 37, including an order of priority in such awards that favors individuals expressing an interest in national security issues or pursuing a career in national security positions. b. Provide for wide dissemination of information regarding the activities assisted under 50 U.S.C. Ch. 37. c. Establish qualifications for students desiring scholarships or fellowships, and institutions of higher education desiring grants, under 50 U.S.C. Ch. 37, including, in the case of students desiring a scholarship or fellowship, a requirement that the student have a demonstrated commitment to the study of the discipline for which the scholarship or fellowship is to be awarded. d. After taking into account the annual analyses of trends in language, international, area, and counter-proliferations studies under 50 U.S.C. 1906(b)(1), make recommendations to the Secretary of Defense regarding: i. Which countries are not emphasized in other U.S. study abroad programs, such as countries in which few U.S. students are studying and countries which are of importance to the national security interests of the United States, and are, therefore, critical countries for the purpose of 50 U.S.C. 1902(a)(1)(A); ii. which areas within the disciplines described in 50 U.S.C. 1902(a)(1)(B) relating to the national security interests of the United States are areas of study in which U.S. students are deficient in learning and are, therefore, critical areas within those disciplines for the purposes of that section; iii. which areas within the disciplines described in 50 U.S.C. 1902(a)(1)(C) are areas in which U.S. students, educators, and Government employees are deficient in learning and in which insubstantial numbers of U.S. institutions of higher education provide training and are, therefore, critical areas within those disciplines for the purpose of that section; iv. how students desiring scholarships or fellowships can be encouraged to work for an agency or office of the Federal Government involved in national security affairs or national security policy upon completion of their education; and v. which foreign languages are critical to the national security interests of the United States for purposes of 50 U.S.C. 1902(a)(1)(D) (relating to grants for the National Flagship Language Initiative) and 50 U.S.C. 1902(a)(1)(E) (relating to the scholarship program for advanced English language studies by heritage community citizens). e. Encourage applications for fellowships under 50 U.S.C. Ch. 37 from graduate students having an educational background in any academic discipline, particularly in the areas of science or technology. f. Provide the Secretary of Defense biennially with a list of scholarship recipients and fellowship recipients, including an assessment of their foreign area and language skills, who are available to work in a national security position. g. Not later than 30 days after a scholarship or fellowship recipient completes the study or education for which assistance was provided under the Program, provide the Secretary of Defense with a report fully describing the foreign area and language skills obtained by the recipient as a result of the assistance. h. Review the administration of the Program required under 50 U.S.C. Ch. 37. i. To the extent provided by the Secretary of Defense, oversee and coordinate the activities of the national Language Service Corps (“the Corps”) under 50 U.S.C. 1913, including: i. Assessing on a periodic basis whether the Corps is addressing the needs identified by the head of departments and agencies of the Federal Government for personnel with skills in various foreign languages; ii. Recommending plans for the Corps to address foreign language shortfalls and requirements of the departments and agencies of the Federal Government; iii. Recommending effective ways to increase public awareness of the need for foreign languages skills and career paths in the Federal Government that use those skills; and, iv. Overseeing the Corps efforts to work with Executive agencies and State and local governments to respond to interagency plans and agreements to address overall foreign language shortfalls and to utilize personnel to address the various types of crises that warrant foreign language skills.

The Secretary of Defense, pursuant to 50 U.S.C. 1906, shall submit to the President and to the Congressional intelligence committees an annual report of the conduct of the Program required by 50 U.S.C. Ch. 37. During preparation of this annual report, the Secretary of Defense shall consult with the members of the Board, who shall each submit to the Secretary an assessment of their hiring needs in the areas of language and area studies and projection of the deficiencies in such areas. The Secretary shall include all assessments in the annual report.

Pursuant to 50 U.S.C. 1903(b), the Board shall be composed of the following 15 individuals or the representative of such individuals: i. The Secretary of Defense, who shall serve as the Chair of the Board. ii. The Secretary of Education. iii. The Secretary of State. iv. The Secretary of Commerce. v. The Secretary of Homeland Security. vi. The Secretary of Energy. vii. The Director of National Intelligence. viii. The Chair of the National Endowment for the Humanities. ix. Six individuals appointed by the President, who shall be experts in the fields of international, language, area, and counter-proliferation studies education and who shall be experts in the fields of international, language, area, and counter-proliferation studies education who may not be officers or employees of the Federal Government.

Consistent with 50 U.S.C. 1903, the Secretary of Defense designates the Under Secretary of Defense for Personnel and Readiness (USD(P&R)) as the Chair of the Board. If the USD(P&R) is unavailable to chair a specific session of the Board, then the Assistant Secretary of Defense for Readiness shall perform the function of the Chair of the Board while the USD(P&R) is unavailable. The authority to chair the Board may not be further delegated.

Pursuant to 50 U.S.C. 1903(c), individuals appointed by the President shall receive no compensation for service on the Board. All members shall receive reimbursement of official Board-related travel and per diem.

The public or interested organizations may submit written statements to the Board membership about the Board's mission and functions. Written statements may be submitted at any time or in response to the stated agenda of planned meeting of the Board. All written statements shall be submitted to the DFO for the Board, and this individual will ensure that the written statements are provided to the membership for their consideration.

Dated: February 13, 2019.
Shelly Finke,
Alternate OSD Federal Register, Liaison Officer, Department of Defense.

[FR Doc. 2019-03227 Filed 2-25-19; 8:45 am]

BILLING CODE 5001-06-P